DEPARTMENT OF COMMERCE

International Trade Administration

Export Trade Certificate of Review

ACTION: Notice of application to amend an Export Trade Certificate of Review.

SUMMARY: Export Trading Company Affairs, International Trade Administration, U.S. Department of Commerce, has received an application to amend an Export Trade Certificate of Review (Certificate). This notice summarizes the proposed amendment and requests comments relevant to whether the Certificate should be issued.

FOR FURTHER INFORMATION CONTACT: Jeffrey Anspacher, Director, Export Trading Company Affairs, International Trade Administration, (202) 482-5131 (this is not a toll-free number) or by e-mail at oetca@ita.doc.gov.

SUPPLEMENTARY INFORMATION: Title III of the Export Trading Company Act of 1982 (15 U.S.C. 4001-21) authorizes the Secretary of Commerce to issue Export Trade Certificates of Review. An Export Trade Certificate of Review protects the holder and the members identified in the Certificate from State and Federal Government antitrust actions and from private, treble damage antitrust actions for the export conduct specified in the Certificate and carried out in compliance with its terms and conditions. Section 302(b)(1) of the Export Trading Company Act of 1982 and 15 CFR 325.6(a) require the Secretary to publish a notice in the Federal Register identifying the applicant and summarizing its proposed export conduct.

Request for Public Comments

Interested parties may submit written comments relevant to the determination whether an amended Certificate should be issued. If the comments include any privileged or confidential business information, it must be clearly marked and a nonconfidential version of the comments (identified as such) should be included. Any comments not marked privileged or confidential business information will be deemed to be nonconfidential. An original and five (5) copies, plus two (2) copies of the nonconfidential version, should be submitted no later than 20 days after the date of this notice to: Export Trading Company Affairs, International Trade Administration, U.S. Department of Commerce, Room 1104H, Washington, DC 20230, or transmit by e-mail at oetca@ita.doc.gov. Information submitted by any person is exempt from disclosure under the Freedom of Information Act (5 U.S.C. 552). However, nonconfidential versions of the comments will be made available to the applicant if necessary for determining whether or not to issue the Certificate. Comments should refer to this application as “Export Trade Certificate of Review, application number 97-8A003.”

The original Certificate for the Association for the Administration of Rice Quotas, Inc., was issued on January 21, 1998 (63 FR 4220, January 28, 1998). The Certificate has been amended seven times. The last amendment was issued on March 3, 2004 (69 FR 12831, March 18, 2004). A summary of the current application for an amendment follows.

Summary of the Application

Applicant: Association for the Administration of Rice Quotas, Inc. (AARQ), c/o Dickie Hollier of The Connell Company, One Connell Drive, Berkeley Heights, New Jersey 07922.

Contact: M. Jean Anderson, Esq., Counsel to Applicant, Telephone: (202) 682-7217.

Application No.: 97-8A003.

Date Deemed Submitted: November 17, 2004.

Proposed Amendment: AARQ seeks to amend its Certificate to reflect the following name, address, corporate changes and deletions of Members:

1. “American Rice, Inc., Houston, Texas” should be amended to read “American Rice, Inc., Houston Texas (a subsidiary of SOS Cuetara USA, Inc.)” due to a corporate acquisition. “Kitoku America, Inc., Davis, California (a subsidiary of Kitoku Shinryo Co., Ltd.)” should be amended to read “Kitoku America, Inc., Burlingame, California (a subsidiary of Kitoku Shinryo Co., Ltd. (Japan))” due to an address change. “Mermentau Rice, Inc., Mermentau, Louisiana” should be amended to read “Louisiana Rice Mill, LLC, Mermentau, Louisiana” due to a corporate name change. “Newfieldrice, Inc., Miami, Florida” should be amended to read “Newfieldrice, Inc., Miramar, Florida” due to an address change. “Nishimoto Trading Company, Ltd., Los Angeles, California (a subsidiary of Nishimoto Trading Company, Ltd. (Japan))” should be amended to read “Nishimoto Trading Co., Ltd., Santa Fe Springs, California (a subsidiary of Nishimoto Trading Company, Ltd. (Japan))” due to an address change. “Riviana Foods, Inc. Houston, Texas” should be amended to read “Riviana Foods Inc., Houston, Texas (a subsidiary of Ebro Puleva, S.A. (Spain))” due to a corporate acquisition.

2. Delete the following companies as Members of the Certificate: “ACH Food Companies, Inc., Cordova, Tennessee,” and “KD International Trading, Inc., Stockton, California (a subsidiary of Sunshine Business Enterprises, Inc.).”

Dated: November 22, 2004.
Jeffrey Anspacher,
Director, Export Trading Company Affairs.

[FR Doc. E4-3351 Filed 11-26-04; 8:45 am]

BILLING CODE 3510-DR-P